DEPARTMENT OF TRANSPORTATION

Federal Railroad Administration

Petition for Waiver of Compliance

In accordance with part 211 of Title 49 Code of Federal Regulations (CFR), notice is hereby given that the Federal Railroad Administration (FRA) has received a request for a waiver of compliance from certain requirements of its safety standards. The individual petition is described below, including the party seeking relief, the regulatory provisions involved, the nature of the relief being requested, and the petitioner's arguments in favor of relief.

Utah Transit Authority

[Supplement to Waiver Docket Number FRA-1999-6253]

As a supplement to the Utah Transit Authority's (UTA) petition for approval of shared use and waiver of certain FRA regulations (the original shared use waiver was granted by the FRA Railroad Safety Board on August 19, 1999, for the Sandy/Salt Lake TRAX Light Rail Transit line), UTA is amending the terms and conditions of the original waiver by constructing the Mid-Jordan LRT line extension of the current Sandy/Salt Lake TRAX LRT line. This extension will be urban rapid transit light rail, featuring some temporally separated shared trackage operation with the Bingham Branch of the General Railroad System.

The Bingham Branch has two short line freight railroads; the Savage Bingham & Garfield Railroad Company and the Utah Railway Company. UTA respectfully requests an additional 5-year extension of the current waiver, and a modification of the current waiver to include the Mid-Jordan extension and its new fleet of Siemens S70 TRAX vehicles. UTA submits that the extension and modifications of the waiver sought herein are in the public interest and consistent with railroad safety because UTA will adopt specific policies and procedures that will provide a level of safety equivalent to that provided by full compliance with FRA regulations. UTA submits that this request is consistent with the waiver process for shared use. See Statement of Agency Policy Concerning Jurisdiction Over the Safety of Railroad Passenger Operations and Waivers Related to Shared Use of the Tracks of the General Railroad System by Light Rail and Conventional Equipment, 65 FR 42529 (July 10, 2000); see also Joint Statement of Agency Policy Concerning Shared Use of the Tracks of the General Railroad System by Conventional Railroads and Light Rail Transit Systems, 65 FR 42626 (July 10, 2000).

On August 19, 1999, UTA filed a petition for approval of shared use and waiver of certain FRA regulations pursuant to 49 CFR 211.7 for the Sandy/Salt Lake TRAX Light Rail Transit line. FRA granted the waiver for a period of 5 years until December 13, 2004. On August 12, 2004, UTA filed a petition requesting a 10-year extension of the waiver, and to additionally cover twenty-nine vehicles purchased from the Santa Clara Valley Transportation Authority (VTA). On December 20, 2004, FRA granted an extension of the waiver, including the VTA vehicles, for a period of 1 year, effective through December 13, 2005. On June 3, 2005, UTA filed a petition requesting a 5-year extension of the waiver. On December 15, 2005, FRA granted an extension of the waiver for a period of 5 years, effective through December 15, 2010.

UTA is expanding its original Sandy/Salt Lake TRAX LRT line by building the 10.6-mile Mid-Jordan LRT line extension, with temporally separated light rail and freight operations sharing track on the Bingham Branch. As part of this Mid-Jordan extension, UTA will reconstruct this existing Bingham Branch Track and add a new parallel track. This construction will allow that portion of the Mid-Jordan LRT line that runs on the Bingham Branch to utilize two tracks for light rail operations during the temporally separated passenger period from 5am-midnight daily, and all day Saturday and Sunday, with maximum authorized speed of 65 mph. Lastly, UTA will buy a new fleet of Siemens S70 TRAX vehicles that will operate throughout the entire light rail system. In addition to the TRAX vehicles for which UTA has already received a waiver of certain FRA regulations (existing TRAX vehicles), UTA intends to add seventy-seven Siemens S70 light-rail vehicles to its fleet. The S70 vehicles are very similar in nature to the existing TRAX vehicles, with minor differences.

UTA operates light rail vehicles that meet the equipment standards of the California Public Utilities Commission, General Order 143-B. The risk of collision between TRAX light rail vehicles will be minimized because movement of TRAX vehicles currently is controlled by UTA controllers in accordance with established operating rules. For this new extension, the same procedures will be in place. Specifically, UTA seeks a waiver from certain portions of 49 CFR, particularly §§ 219 Control of Alcohol and Drug Use; 221 Rear End Marking Devices; 222 Use of Locomotive Horns at Public Highway-Rail Grade crossings; 223 Safety Glazing Standards; 225 Railroad Accidents/Incidents; 228 Hours of Service of Railroad Employees; 229 Locomotive Safety Standards; 231 Railroad Safety Appliance Standards; 234 Grade Crossing Signal Systems Safety; 238 Passenger Equipment Safety Standards; 239 Passenger Rail Emergency Preparedness; and 240 Qualification and Certification of Locomotive Engineers.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket Number FRA-1999-6253) and may be submitted by any of the following methods:

• Web site: http://www.regulations.gov. Follow the online instructions for submitting comments.

• Fax: 202-493-2251.

• Mail: Docket Operations Facility, U.S. Department of Transportation, 1200 New Jersey Avenue, SE., W12-140, Washington, DC 20590.

• Hand Delivery: 1200 New Jersey Avenue, SE., Room W12-140, Washington, DC 20590, between 9 a.m. and 5 p.m., Monday through Friday, except Federal holidays.

Communications received within 45 days of the date of this notice will be considered by FRA before final action is taken. Comments received after that date will be considered as far as practicable. All written communications concerning these proceedings are available for examination during regular business hours (9 a.m.-5 p.m.) at the above facility. All documents in the public docket are also available for inspection and copying on the Internet at the docket facility's Web site at http://www.regulations.gov.

Anyone is able to search the electronic form of any written communications and comments received into any of our dockets by the name of the individual submitting the document (or signing the document, if submitted on behalf of an association, business, labor union, etc.). You may review DOT's complete Privacy Act Statement in the Federal Register published on April 11, 2000 (65 FR 19477) or at http://www.dot.gov/privacy.html.

Issued in Washington, DC, on October 8, 2010.
Robert C. Lauby,
Deputy Associate Administrator for Regulatory and Legislative Operations.

[FR Doc. 2010-26012 Filed 10-14-10; 8:45 am]

BILLING CODE 4910-06-P